DEPARTMENT OF AGRICULTURE

Forest Service

Medicine Bow-Routt National Forests and Thunder Basin National Grassland; Wyoming; Thunder Basin National Grassland Prairie Dog Amendment Environmental Impact Statement; Cancellation

AGENCY: Forest Service, USDA.

ACTION: Notice of intent to prepare an environmental impact statement; cancellation notice

SUMMARY: On September 13, 2013, a Notice of Intent (NOI) to prepare an environmental impact statement (EIS) for the Thunder Basin National Grassland Prairie Dog Amendment on the Medicine Bow-Routt National Forests and Thunder Basin National Grassland was published in the Federal Register (78 FR 56650). The Forest Service has decided to cancel the preparation of this EIS. The NOI is hereby rescinded.

FOR FURTHER INFORMATION CONTACT: Shane Walker, District Ranger, Douglas Ranger District, Medicine Bow-Routt National Forests and Thunder Basin National Grassland. Telephone: (307) 358-4690. Email: mswalker@fs.fed.us.

Dated: December 13, 2016.
Dennis L. Jaeger,
Forest Supervisor.

[FR Doc. 2016-30440 Filed 12-16-16; 8:45 am]

BILLING CODE 3411-15-P